ENVIRONMENTAL PROTECTION AGENCY

[EPA-HQ-OPPT-2017-0559 83; FRL-9977-30]

TSCA Alternative Testing Methods Draft Strategic Plan; Extension of Comment Period

AGENCY: Environmental Protection Agency (EPA).

ACTION: Notice; extension of comment period.

SUMMARY: EPA issued a Draft Strategic Plan to Promote the Development and Implementation of Alternative Test Methods under section 4(h) of the Toxic Substances Control Act (TSCA). This document extends the comment period for the draft document from April 26, 2018 to May 11, 2018. A commenter requested additional time to submit written comments. EPA is therefore extending the comment period in order to give all interested persons additional time to comment.

DATES: Comments, identified by docket identification (ID) numbers EPA-HQ-OPPT-2017-0559, must be received on or before May 11, 2018.

ADDRESSES: Follow the detailed instructions provided under ADDRESSES in the Federal Register document of March 12, 2018.

FOR FURTHER INFORMATION CONTACT:

For technical information contact: Louis Scarano, Risk Assessment Division, Office of Pollution Prevention and Toxics, Environmental Protection Agency, 1200 Pennsylvania Ave. NW, Washington, DC 20460-0001; telephone number: (202) 564-2851; email address: scarano.louis@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of March 12, 2018 (83 FR 10717) (FRL-9974-13). As required by TSCA, as amended by the Frank R. Lautenberg Chemical Safety for the 21st Century Act in June 2016, EPA is developing, pursuant to TSCA section 4(h)(2)(A), a Strategic Plan to promote the development and implementation of alternative test methods and strategies to reduce, refine or replace vertebrate animal testing. The draft Strategic Plan will be available for comment until May 11, 2018 and information obtained will be considered in the Agency's development of the final Strategic Plan which is required to be completed and published in June of 2018.

To submit comments, or access the docket, please follow the detailed instructions provided under ADDRESSES in the Federal Register document of March 12, 2018. If you have questions, consult the technical person listed under FOR FURTHER INFORMATION CONTACT.

Authority: 5 U.S.C. 2601 et seq.

Dated: April 24, 2018.
Charlotte Bertrand,
Acting Principal Deputy Assistant Administrator, Office of Chemical Safety and Pollution Prevention.

[FR Doc. 2018-08974 Filed 4-26-18; 8:45 am]

BILLING CODE 6560-50-P